DEPARTMENT OF TRANSPORTATION

Federal Railroad Administration

[Docket No. FRA-2025-0011]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before May 20, 2025.

ADDRESSES: Written comments and recommendations for the proposed ICR should be submitted on www.regulations.gov to the docket, Docket No. FRA-2025-0011. All comments received will be posted without change to the docket, including any personal information provided. Please refer to the assigned OMB control number (2130-0544) in any correspondence submitted. FRA will summarize comments received in response to this notice in a subsequent 30-day notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Passenger Equipment Safety Standards.

OMB Control Number: 2130-0544.

Abstract: FRA's Passenger Equipment Safety Standards (49 CFR part 238) are used by FRA to promote passenger train safety by ensuring requirements are met for structural design and performance, fire safety, emergency systems, inspection, testing, and maintenance, and other provisions for the safe operation of railroad passenger equipment. For instance, the information collected from daily inspections is used to detect and correct equipment problems in order to prevent, to the extent that they can be prevented, collisions, derailments, and other occurrences involving railroad passenger equipment that cause injury or death to railroad employees, railroad passengers, or to the general public.

In this 60-day notice, FRA has adjusted the estimated paperwork burden. FRA's estimate of the burden hours under this ICR has increased from 95,946 hours to 95,947 hours.

Under §§ 238.133(c), En route failure safety briefing and 238.21(f), Comment on petitions, after further review, FRA determined that these requirements are not considered information collection under 5 CFR 1320.3(b) and (c). Therefore, the burden hour estimates associated with these requirements were removed.

A small increase in the estimated number of submissions under § 238.111, Pre-revenue service acceptance testing plans for Tier III resulted in the overall increase in burden of one (1) hour.

Type of Request: Extension without change (with changes in estimates) of a currently approved collection.

Affected Public: Businesses.

Form(s): N/A.

Respondent Universe: 35 Railroads.

Frequency of Submission: On occasion.

Reporting Burden
CFR section | Respondent universe | Total annual responses | Average time per response | Total annual burden in hours | Wage rate ¹ | Total cost equivalent
|  | (A) | (B) | (C) = A * B | (D) | (E) = C * D
229.47 Emergency brake valve: |
—(a) through (b) “Emergency Brake Valve” shall be legibly stenciled or marked near each valve or shall be shown on an adjacent badge plate | FRA anticipates zero submissions for this regulatory requirement over the next three-years.
238.7 Waivers:
—(a) through (c) Petition for waiver of compliance under this section | 34 railroads | 12 | 6 hours | 72 | $89.13 | $6,417.36
238.15 Movement of passenger equipment with power brake defects: ²
—(b)(1)(iii) Passenger equipment with a power brake defect at the time a Class I or IA brake test is performed must be tagged before it is moved | 34 railroads | 1,000 | 3 minutes | 50 | 89.13 | 4,456.50
—(c)(2) Limitations on movement of passenger equipment in passenger service that becomes defective en route after a Class I or IA brake test—Tagging of defective equipment | 34 railroads | 288 | 3 minutes | 14.40 | 89.13 | 1,283.48
238.17 Movement of passenger equipment with other than power brake defects:
—(c)(4) and (e)(3) Tagging of defective equipment | 34 railroads | 200 | 3 minutes | 10 | 89.13 | 891.30
238.19 Reporting and tracking of repairs to defective passenger equipment:
238.19(b) and (c) Retention or availability of records | For Tier I trainsets, FRA determined that since the 1990s railroads retain and make available records for reporting and tracking defective passenger equipment as part of their normal business operations.
—(d) List of repair points—Railroads operating long-distance intercity and long-distance Tier II passenger equipment | FRA anticipates zero submissions under this paperwork requirement over the next three years.
238.21 Special approval procedure:
—(b) Petitions for special approval of alternative standard | 34 railroads | 1 | 16 hours | 16 | 89.13 | 1,426.08
—(c) Petitions for special approval of alternative compliance | 34 railroads | 1 | 40 hours | 40 | 89.13 | 3,565.20
238.103 Fire safety:
—(c) Fire safety analysis for procuring new passenger cars and locomotives | 1 new railroad | 1 | 150 hours | 150 | 89.13 | 13,369.50
—(d)(4) New fire safety analysis prior to transferring existing passenger cars and locomotives to a new category of rail service | 34 railroads | 1 | 10 hours | 10 | 89.13 | 891.30
238.105 Train electronic hardware and software safety:
Train electronic hardware and software safety program plans | 1 new railroad | 1 | 150 hours | 150 | 89.13 | 13,369.50
238.107 Inspection, testing and maintenance plan (ITM):
—(b) Development of ITM plan for new railroads | 1 new railroad | 1 | 150 hours | 150 | 89.13 | 13,369.50
—(d) ITM plan annual review | 34 railroads | 34 | 20 hours | 680 | 89.13 | 60,608.40
238.109 Training, qualification, and designation program:
—(a) Development of training program/curriculum for new railroads | 1 new railroad | 1 | 160 hours | 160 | 89.13 | 14,260.80
—(b)(13) Recordkeeping—Employees and trainers—Training qualifications | 34 railroads | 488 | 3 minutes | 24.40 | 89.13 | 2,174.78
238.111 Pre-revenue service acceptance testing plan: ³
—(a) Passenger equipment that has previously been used in service in the U.S.—New and modified plans | 35 railroads | 1.33 | 16 hours | 21.28 | 89.13 | 1,896.69
—(b)(1) and (2) Passenger equipment that has not been previously used in revenue service in the U.S | 35 railroads | 1 | 192 hours | 192 | 89.13 | 17,112.96
—(b)(4) Documenting in writing the results of the tests | 35 railroads | 1 letter | 4 hours | 4 | 89.13 | 356.52
—(b)(7) and (c) Plan submitted to FRA for Tier II or Tier III equipment before being placed in service | 1 railroad | 0.33 | 3 hours | 1 | 89.13 | 89.13
238.131 Exterior side door safety systems—new passenger cars and locomotives used in passenger service:
—(a)(2)—Failure Modes, Effects, Criticality Analysis (FMECA) | 1 new railroad | 1 | 80 hours | 80 | 89.13 | 7,130.40
238.133 Exterior side door safety systems—all passenger cars and locomotives used in a passenger service:
—(a)(2) Functional test plans | 1 new railroad | 1 | 4 hours | 4 | 89.13 | 356.52
—(d) Records of door by-pass activation, unintended opening, and exterior side door safety system inspections | 34 railroads | 100 | 2 minutes | 3.33 | 89.13 | 296.81
238.135 Operating practices for exterior side door safety systems: |
—(c) Railroads' request to FRA for special consideration to operate passenger trains with exterior side doors or trap doors, or both, open between stations | The estimated paperwork burden for this regulatory requirement is covered above under § 238.7 or § 238.21.
—(c)(4) Railroads' response to FRA request for additional information concerning special consideration request | The estimated paperwork burden for this regulatory requirement is covered above under § 238.7 or § 238.21.
—(d) Operating rules on how to safely override a door summary circuit or no-motion system, or both, in the event of an en route exterior side door failure or malfunction on a passenger train (Note: Includes burden under § 238.137) | 1 new railroad | 1 | 8 hours | 8 | 89.13 | 713.04
—(e) Railroads' training of train crewmembers on requirements of this section | The estimated paperwork burden associated with training recordkeeping for crewmembers per this requirement is covered under § 238.109 and under OMB control numbers, 2130-0596 Conductor Certification and 2130-0533, Locomotive Engineer Certification.
238.229 Safety appliances—general:
—(c) Welded safety appliances—Written lists submitted to FRA by the railroads | 1 new railroad | 1 | 1 hour | 1 | 89.13 | 89.13
—(d) Defective welded safety appliance or welded safety appliance bracket or support—Tagging | 34 railroads | 4 | 3 minutes | 0.20 | 69.60 | 13.92
—(d) Notification to crewmembers about non-compliant equipment | 34 railroads | 2 | 1 minute | 0.03 | 89.13 | 2.68
—(g) Inspection plans | 1 new railroad | 1 | 16 hours | 16 | 89.13 | 1,426.08
—(k) Records of the inspection and repair of the welded safety appliance brackets | The estimated paperwork burden for this requirement is covered under OMB control number 2130-0004 (§ 229.21).
238.230 Safety appliances—new equipment: |
—(b)(1)(ix) Inspection record of welded equipment by qualified employee | FRA estimates zero submissions for this paperwork requirement for this 3-year ICR period.
—(b)(3) Welded safety appliances: Documentation for equipment impractically designed to mechanically fasten safety appliance support | FRA estimates zero submissions for this paperwork requirement for this 3-year ICR period.
238.231 Brake System: |
—(h)(3) Inspection and repair of hand/parking brake: Records (under FRA Form 6180.49A) | The estimated paperwork burden for this requirement is covered under § 238.303(g) and under OMB control number 2130-0004.
—(h)(4)(iv) Procedures verifying hold of hand/parking brakes | 1 new railroad | 1 | 2 hours | 2 | 89.13 | 178.26
238.237 Automated monitoring:
—(b) Documentation for alerter/deadman control timing | 1 new railroad | 1 | 2 hours | 2 | 89.13 | 178.26
—(d)(2)(i) Defective alerter/deadman control: Tagging | 34 railroads | 25 | 3 minutes | 1.25 | 69.60 | 87.00
238.303 Exterior calendar day mechanical inspection of passenger equipment: |
—(b)(2) Notice of previous inspection | FRA anticipates zero railroad submissions for this 3-year ICR period.
—(e)(15)(i)(A) & (ii)(A) Tagging of inoperative dynamic brakes | 34 railroads | 50.00 tags | 3 minutes | 2.50 | 69.60 | 174.00
—(e)(17) Multiple unit (MU) passenger equipment found with inoperative/ineffective air compressors at exterior calendar day inspection: Documents | FRA anticipates zero railroad submissions for this 3-year ICR period.
—(e)(17)(v) Written notice to train crew about inoperative/ineffective air compressors | The estimated paperwork burden for this regulatory requirement is covered above under § 238.303(e)(15).
—(g) Record of exterior calendar daily mechanical inspections (Other than locomotives) (* Note: Includes burden for records of inoperative air compressors under § 238.303(e)(18)(iv)) | 34 railroads | 1,734,115 | 1 minute | 28,901.92 | 89.13 | 2,576,028.13
238.305 Interior calendar day mechanical inspection of passenger cars:
—(c)(10) Tagging of defective end/side doors | 34 railroads | 540.00 | 3 minutes | 27 | 89.13 | 2,406.51
—(f) Records of interior calendar day inspection | 34 railroads | 3,102,865 | 1 minute | 51,714.42 | 89.13 | 4,609,306.26
238.307 Periodic mechanical inspection of passenger cars and unpowered vehicles used in passenger trains:
—(a)(2) Alternative inspection intervals: Notifications | 34 railroads | 2 | 5 hours | 10 | 89.13 | 891.30
—(c)(1) Notice of seats and seat attachments broken or loose | 34 railroads | 200 | 2 minutes | 6.67 | 69.60 | 464.24
—(e)(1) Records of each periodic mechanical inspection | 34 railroads | 5,184 | 1 hour | 5,184 | 69.60 | 360,806.40
—(e)(2) Detailed documentation of reliability assessments as basis for alternative inspection interval | 34 railroads | 2 | 100 hours | 200 | 89.13 | 17,826.00
238.311 Single car test:
—(f) Tagging to indicate need for single car test | 34 railroads | 50.00 tags | 3 minutes | 2.50 | 69.60 | 174.00
238.313 Class I brake test:
—(h) Record for additional inspection for passenger equipment that does not comply with § 238.231(b)(1) | 34 railroads | 15,600 | 30 minutes | 7,800 | 69.60 | 542,880.00
238.321 Out-of-service credit: |
Passenger car: Out-of-use notation | The estimated paperwork burden for this regulatory requirement is covered in this ICR under § 238.307 and under OMB control number 2130-0004 under § 229.23(d) through (g).
238.703 Quasi-static compression load requirements:
—(b)(3) Document to FRA on Tier III trainset compliance | 1 new railroad | 0.33 | 40 hours | 13.20 | 89.13 | 1,176.52
238.705 Dynamic collision scenario:
—(a)(10) Dynamic collision scenario—Model validation document to FRA for review and approval | 1 new railroad | 0.33 | 40 hours | 13.20 | 89.13 | 1,176.52
238.707 Override protection:
—Anti-climbing performance evaluation for Tier III trainsets | 1 new railroad | 0.33 | 40 hours | 13.20 | 89.13 | 1,176.52
238.709 Fluid entry inhibition:
—(b) Information to demonstrate compliance with this section of a Tier III trainset | 1 new railroad | 0.33 | 20 hours | 6.60 | 89.13 | 588.26
238.721 Glazing:
—(3)(i) Cab glazing; end facing—Documentation containing technical justification | 3 glass manufacturers | 0.33 | 60 hours | 19.80 | 89.13 | 1,764.78
—(b) Cab glazing; side-facing exterior windows in Tier III cab—Each end-facing exterior window in a cab shall, at a minimum, provide ballistic penetration resistance that meets the requirements of appendix A to part 223 (Certification of Glazing Materials) | 3 glass manufacturers | 0.33 | 10 hours | 3.30 | 89.13 | 294.13
—(c) Non-cab glazing; side-facing exterior windows—Tier III—compliance document for Type II glazing | 3 glass manufacturers | 0.33 | 20 hours | 6.60 | 89.13 | 588.26
—(c)(2) Alternative standard to FRA for side-facing exterior window intended to be breakable and serve as an emergency window exit (option to comply with an alternative standard) | 3 glass manufacturers | 0.67 | 5 hours | 3.35 | 89.13 | 298.59
238.731 Brake system:
—(d)(1) Tier III trainsets' passenger brake alarm—Legible stenciling/marking of devices with words “Passenger Brake Alarm” (including the design of the sticker) | 1 new railroad | 53.33 stenciling | 1 hour (design) + 2 minutes (marking) | 55.11 | 69.60 | 3,835.66
—(f) Main reservoir test/certification | 1 new railroad | 0.33 | 6 hours | 1.98 | 69.60 | 137.81
—(h) Main reservoir tests—Inspection, testing and maintenance program | 1 railroad | 0.33 | 10 hours | 3.30 | 89.13 | 294.13
—(j) Brake application/release—Brake actuator design with approved brake cylinder pressure as part of design review process | 1 railroad | 0.33 | 40 hours | 13.20 | 89.13 | 1,176.52
—(o) Train securement—Tier III equipment: demonstrated securement procedure | 1 railroad | 0.33 | 8 hours | 2.64 | 89.13 | 235.31
238.733 Interior fixture attachment:
—Analysis for FRA approval (Tier III) | 1 railroad | 0.33 | 20 hours | 6.60 | 89.13 | 588.26
238.735 Seat crashworthiness standard (passenger & cab crew):
—Analysis for FRA approval (Tier III) | 1 railroad | 0.33 | 40 hours | 13.20 | 89.13 | 1,176.52
238.737 Luggage racks:
—Analysis for FRA approval (Tier III) | 1 railroad | 0.33 | 20 hours | 6.60 | 89.13 | 588.26
238.741 Emergency window egress and rescue access:
—Plan to FRA for passenger cars in Tier III trainsets not in compliance with § 238.113 or § 238.114 | 1 railroad | 0.33 | 60 hours | 19.80 | 89.13 | 1,764.78
238.743 Emergency Lighting:
—Analysis for FRA approval (Tier III) | 1 railroad | 0.33 analysis/test | 60 hours | 19.80 | 89.13 | 1,764.78
238.751 Alerters:
—Alternate technology—Analysis for FRA approval (Tier III) | 1 railroad | 0.33 analysis/test | 40 hours | 13.20 | 89.13 | 1,176.52
Total ⁴ | 35 railroads | 4,860,838 Responses | N/A | 95,947 | N/A | 8,296,770
¹ Throughout the tables in this document, the dollar equivalent cost is derived from the 2023 Surface Transportation Board's Full Year Wage A&B data series using the appropriate employee group hourly wage rate that includes 75-percent overhead charges.
² Paragraph 238.15(c)(4), Conditional requirement, has been removed from this submission. FRA determined that this regulatory requirement does not create a paperwork burden.
³ Paragraph 238.111(b), Subsequent equipment orders have been removed from this submission. After further review, this is not a requirement specified under this section and therefore there is no associated burden.
⁴ Totals may not add up due to rounding.

Total Estimated Annual Responses: 4,860,838.

Total Estimated Annual Burden: 95,947 hours.

Total Estimated Annual Burden Hour Dollar Cost Equivalent: $8,296,770.

FRA informs all interested parties that it may not conduct or sponsor, and a respondent is not required to respond to, a collection of information that does not display a currently valid OMB control number.

Authority: 44 U.S.C. 3501-3520.

Christopher S. Van Nostrand,
Deputy Chief Counsel.

[FR Doc. 2025-04893 Filed 3-20-25; 8:45 am]

BILLING CODE 4910-06-P